DEPARTMENT OF HOMELAND SECURITY

U.S. Immigration and Customs Enforcement

[Docket No. ICEB-2023-0012]

RIN 1653-ZA43

Employment Authorization for Cameroonian F-1 Nonimmigrant Students Experiencing Severe Economic Hardship as a Direct Result of the Current Armed Conflict and Current Humanitarian Crisis in Cameroon

AGENCY: U.S. Immigration and Customs Enforcement; Department of Homeland Security.

ACTION: Notice.

SUMMARY: This notice announces that the Secretary of Homeland Security (Secretary) is suspending certain regulatory requirements for F-1 nonimmigrant students whose country of citizenship is Cameroon, regardless of country of birth (or individuals having no nationality who last habitually resided in Cameroon), and who are experiencing severe economic hardship as a direct result of the current armed conflict and current humanitarian crisis in Cameroon. The Secretary is taking action to provide relief to these Cameroonian students who are in lawful F-1 nonimmigrant student status, so the students may request employment authorization, work an increased number of hours while school is in session, and reduce their course load while continuing to maintain their F-1 nonimmigrant student status. The U.S. Department of Homeland Security (DHS) will deem an F-1 nonimmigrant student granted employment authorization by means of this notice to be engaged in a “full course of study” for the duration of the employment authorization, if the nonimmigrant student satisfies the minimum course load requirement described in this notice.

DATES: This action is effective December 8, 2023, through June 7, 2025.

FOR FURTHER INFORMATION CONTACT: Sharon Snyder, Unit Chief, Policy and Response Unit, Student and Exchange Visitor Program, MS 5600, U.S. Immigration and Customs Enforcement, 500 12th Street SW, Washington, DC 20536-5600. email: sevp@ice.dhs.gov, telephone: (703) 603-3400. This is not a toll-free number. Program information can be found at https://www.ice.gov/sevis/.

SUPPLEMENTARY INFORMATION:

What action is DHS taking under this notice?

The Secretary is exercising authority under 8 CFR 214.2(f)(9) to temporarily suspend the applicability of certain requirements governing on-campus and off-campus employment for F-1 nonimmigrant students whose country of citizenship is Cameroon regardless of country of birth (or individuals having no nationality who last habitually resided in Cameroon), who are present in the United States in lawful F-1 nonimmigrant student status on the date of publication of this notice, and who are experiencing severe economic hardship as a direct result of the current armed conflict and current humanitarian crisis in Cameroon. The original notice, which suspended certain regulatory requirements for F-1 nonimmigrant students experiencing severe economic hardship as a direct result of the crisis at that time was effective from June 7, 2022, through December 7, 2023. See 87 FR 34701 (June 7, 2022). Effective with this publication, suspension of the employment limitations is available through June 7, 2025, for those who are in lawful F-1 nonimmigrant status on the date of publication of this notice. DHS will deem an F-1 nonimmigrant student granted employment authorization through this notice to be engaged in a “full course of study” for the duration of the employment authorization, if the student satisfies the minimum course load set forth in this notice.¹ See 8 CFR 214.2(f)(6)(i)(F).

¹ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of June 7, 2025, provided the student satisfies the minimum course load requirements in this notice.

Who is covered by this notice?

This notice applies exclusively to F-1 nonimmigrant students who meet all of the following conditions:

(1) Are a citizen of Cameroon regardless of country of birth (or an individual having no nationality who last habitually resided in Cameroon);

(2) Were lawfully present in the United States on the date of publication of this notice in F-1 nonimmigrant status under section 101(a)(15)(F)(i) of the Immigration and Nationality Act (INA), 8 U.S.C. 1101(a)(15)(F)(i);

(3) Are enrolled in an academic institution that is Student and Exchange Visitor Program (SEVP)-certified for enrollment for F-1 nonimmigrant students;

(4) Are currently maintaining F-1 nonimmigrant status; and

(5) Are experiencing severe economic hardship as a direct result of the current armed conflict and current humanitarian crisis in Cameroon.

This notice applies to F-1 nonimmigrant students in an approved private school in kindergarten through grade 12, public school grades 9 through 12, and undergraduate and graduate education. An F-1 nonimmigrant student covered by this notice who transfers to another SEVP-certified academic institution remains eligible for the relief provided by means of this notice.

Why is DHS taking this action?

DHS is taking action to provide relief to Cameroonian F-1 nonimmigrant students experiencing severe economic hardship due to the current armed conflict and current humanitarian crisis in Cameroon. Based on its review of country conditions in Cameroon and input received from the U.S. Department of State (DOS), DHS is taking action to allow eligible F-1 nonimmigrant students from Cameroon to request employment authorization, work an increased number of hours while school is in session, and reduce their course load while continuing to maintain F-1 nonimmigrant status.

In Cameroon's Far North region, attacks from Boko Haram and the Islamic State West Africa Province (ISWAP, aka IS-WA, aka ISIS-WA) are becoming more frequent as part of the armed conflict in that region.² Separately, the Republic of Cameroon continues to face secessionist violence in the English-speaking regions (Northwest Region and Southwest Region). The armed conflict in the Far North and violence elsewhere has led to a severe humanitarian crisis in Cameroon, weakened the economy, and caused many Cameroonians to flee to internal displacement camps or to foreign countries as refugees.³

² Cameroon Crisis Response Plan 2023, UN International Office of Migration, Jan. 19, 2023, available at https://crisisresponse.iom.int/response/cameroon-crisis-response-plan-2023 (last visited July 26, 2023).

³ Cameroon Factsheet, European Union Civil Protection and Humanitarian Aid Operations, available at https://civil-protection-humanitarian-aid.ec.europa.eu/where/africa/cameroon_en (last visited July 26, 2023); See also: Cameroon—Situation Report, UNOCHA, available at https://reports.unocha.org/en/country/cameroon/ (last visited July 26, 2023).

Secessionist Violence

According to the International Crisis Group, armed separatists continue to ambush security forces and harass aid workers in their fight to secede from the majority-Francophone country.⁴ For the first time, in May 2023, armed separatists attacked military posts near the second largest city of Cameroon, Douala.⁵ The city of Douala houses a strategic seaport of about four million people, which supplies 80 percent of the imported goods for the neighboring landlocked Central African Republic and Chad.⁶ Officials say the separatists killed at least six people and wounded many others.⁷ Separatists have also targeted civilians in other ways.⁸ For example, the separatists have kidnapped civilians for ransom, extorted shopkeepers and others, and imposed their own taxes on businesses.⁹ Meanwhile, the Separatists continue targeted violence continues in the English-speaking regions.¹⁰

⁴ A Second Look at Cameroon's Anglophone Special Status, ICG, available at https://www.crisisgroup.org/africa/central-africa/cameroon/b188-second-look-cameroons-anglophone-special-status (last visited July 26, 2023).

⁵ Cameroon Separatists Stage Attack Near French-Speaking City of Douala, Voice of America, available at https://www.globalsecurity.org/military/library/news/2023/05/mil-230502-voa04.htm (last visited July 25, 2023).

⁶ Cameroon Separatists Stage Attack Near French-Speaking City of Douala, Voice of America, available at https://www.voanews.com/a/cameroon-separatists-stage-attack-near-french-speaking-city-of-douala/7075202.html (last visited July 25, 2023).

⁷ Cameroon Separatists Stage Attack Near French-Speaking City of Douala, Voice of American, available at https://www.globalsecurity.org/military/library/news/2023/05/mil-230502-voa04.htm (last visited July 25, 2023).

⁸ Cameroon: Events of 2022, Human Rights Watch, available at https://www.hrw.org/world-report/2023/country-chapters/cameroon (last visited July 26, 2023).

⁹ Cameroon could face new atrocity crimes after deploying government forces to counter armed separatists, Robert Lansing Institute, available at https://lansinginstitute.org/2023/01/20/cameroon-could-facenew-atrocity-crimes-after-deploying-government-forces-to-counter-armed-separatists/ (last visited July 26, 2023).

¹⁰ Cameroon: Suspected separatists kidnap 50 women in Mezam Department, Northwest Region, May 19, Crisis 24, available at https://crisis24.garda.com/alerts/2023/05/cameroon-suspected-separatists-kidnap-50-women-in-mezam-department-northwest-region-may-19 (last visited July 26, 2023).

Economic Concerns

Armed separatists have restricted the movements of persons and goods in the Northwest and Southwest Regions, sometimes in a deliberate attempt to harass and intimidate the local population.¹¹ Separatists are frequently using weekly lockdowns, sometimes referred to as “ghost towns” to limit movement by ordering businesses, schools, and places of worship closed, and residents to remain home.¹²

¹¹ 2022 Country Reports on Human Rights Practices: Cameroon, US Department of State, available at https://www.state.gov/reports/2022-country-reports-on-human-rights-practices/cameroon/ (last visited July 25, 2023).

¹² 2022 Country Reports on Human Rights Practices: Cameroon, US Department of State, available at https://www.state.gov/reports/2022-country-reports-on-human-rights-practices/cameroon/ (last visited July 25, 2023).

According to the World Bank, Cameroon suffers from weak governance, hindering its development and ability to attract investors.¹³ The 2021/2022 Human Development Index ranked Cameroon 151 out of 191 countries.¹⁴ Although there has been some economic progress, poverty remains a significant problem. It is estimated that 37.5 percent of the country's population lives below the poverty line and in some other regions this estimate exceeds 70 percent.¹⁵

¹³ The World Bank in Cameroon, World Bank, available at https://www.worldbank.org/en/country/cameroon/overview (last visited July 25, 2023).

¹⁴ Cameroon Humanitarian Needs Overview 2023 (March 2023), United Nations Office for the Coordination of Humanitarian Affairs (UN OCHA), https://www.unocha.org/publications/report/cameroon/cameroon-humanitarian-needs-overview-2023-march-2023 (last visited Sept. 26, 2023).

¹⁵ Id.

According to the African Development Bank, real GDP growth decreased to 3.4 percent in 2022 from 3.6 percent in 2021. Inflation increased to 6.2 percent in 2022 from 2.3 percent in 2021, which exceeds the Central African Economic and Monetary Community (CEMAC) goal of 3 percent.¹⁶ The World Bank also reported on Cameroon's high inflation and cited the war in Ukraine and the COVID-19 pandemic as contributing factors to it.¹⁷

¹⁶ Cameroon Economic Outlook, African Development Bank, available at https://www.afdb.org/en/countries/central-africa/cameroon (last visited July 24, 2023).

¹⁷ Cameroon Overview, World Bank, available at https://www.worldbank.org/en/country/cameroon/overview (last visited July 24, 2023).

Humanitarian Concerns

Cameroon faces a humanitarian crisis due to multiple factors including the violence in the English-speaking regions and the conflict in the Far-North region. Islamist armed groups like Boko Haram and ISWAP have continued attacks in this region, killing many civilians, and further contributing to the internal displacement of over 378,000 of Cameroonians by July 2022 alone.¹⁸ As of May 2023, there were 1,066,254 internally displaced persons,¹⁹ an increase from 983,281 internally displaced persons in February 2022,²⁰ as well as over 86,000 Cameroonian refugees in Nigeria as of November 2022.²¹

¹⁸ Cameroon: Events of 2022, Human Rights Watch, available at https://www./hrw.org/world-report/2023//country-chapters/cameroon (last visited July 26, 2023).

¹⁹ Cameroon Multi Country Office: Refugees and Internally Displaced Persons (Figures available as of 31 May 2023), Relief, available at https://reliefweb.int/map/cameroon/cameroon-multi-country-office-refugees-and-internally-displaced-persons-figures-available-31-may-2023 (last visited July 26, 2023).

²⁰ Persons of Concern in Cameroon MCO (January 2023), UN OCHA Reliefweb, Feb. 27, 2023, available at https://reliefweb.int/report//cameroon/persons-/concern-cameroon-/mco-january-2023 (last visited July 26, 2023).

²¹ Cameroonian Refugees in Nigeria—Operational Update, November 2022, UN OCHA Reliefweb, Dec. 19, 2022, available at https://reliefweb.int/report/nigeria/cameroonian-refugees-nigeria-operational-update-november-2022 (last visited Sept. 26, 2023).

According to the United Nations, “in 2023, one out of six people living in Cameroon needs humanitarian assistance and protection, a total of 4.7 million people. More than 3.2 million people are projected to face acute food insecurity in 2023.” ²² “While 3.9 million people needed humanitarian assistance in 2022, a higher number (4.7 million) may need it in 2023, according to the United Nations Office for the Coordination of Humanitarian Affairs (UN OCHA)'s draft 2023 Humanitarian Need Overview.” ²³ “Additionally, the country faces the enormous challenge of ensuring food security in the face of the fastest increases in commodity prices for food since 2008.” ²⁴

²² Cameroon Humanitarian Needs Overview 2023 (March 2023), Reliefweb, available at https://reliefweb.int/report//cameroon/cameroon-/humanitarian-needs-/overview-2023-march-2023#:~:text=In%202023%2C%/20one%20out%20of,)%2C%20returnees/%2C%20or%20refugees (last visited July 26, 2023).

²³ Cameroon Factsheet, European Union Civil Protection and Humanitarian Aid Operations, 2023, available at https://civil-protection-humanitarian-aid.ec.europa.eu/where/africa/cameroon_en (last visited July 26, 2023).

²⁴ Cameroon Crisis Response Plan 2023, UN International Office of Migration, available at https://crisisresponse.iom.int/response/cameroon-crisis-response-plan-2023 (last visited July 26, 2023).

According to the UN OCHA, in 2023, 3 million people are estimated to be facing acute food insecurity in Cameroon.²⁵ Additionally, more than 2 million people are classified as internally displaced persons (IDPs), returnee persons or refugees, and do not have access to many services.²⁶ The UN OCHA also estimates that 77 percent of those in need of humanitarian assistance are women and children.²⁷

²⁵ Cameroon—Situation Report, UNOCHA, available at https://reports.unocha.org/en/country/cameroon/ (last visited July 26, 2023).

²⁶ Id.

²⁷ Id.

The humanitarian situation continues to deteriorate due to the activities of armed groups that have obstructed aid agencies' access to areas they control.²⁸ Moreover, the armed groups continue to damage and destroy civilian infrastructures.²⁹

²⁸ Cameroon: Events of 2022, Human Rights Watch, available at https://www.hrw.org/world-report/2023/country-chapters/cameroon (last visited July 26, 2023).

²⁹ Id.

As of September 19, 2023, approximately 1,160 F-1 nonimmigrant students from Cameroon are enrolled at SEVP-certified academic institutions in the United States. Given the extent of the current armed conflict and current humanitarian crisis in Cameroon, affected students whose primary means of financial support comes from Cameroon may need to be exempt from the normal student employment requirements to continue their studies in the United States. The current armed conflict and current humanitarian crisis has made it unfeasible for many students to safely return to Cameroon for the foreseeable future. Without employment authorization, these students may lack the means to meet basic living expenses.

What is the minimum course load requirement to maintain valid F-1 nonimmigrant status under this notice?

Undergraduate F-1 nonimmigrant students who receive on-campus or off-campus employment authorization under this notice must remain registered for a minimum of six semester or quarter hours of instruction per academic term. Undergraduate F-1 nonimmigrant students enrolled in a term of different duration must register for at least one half of the credit hours normally required under a “full course of study.” See 8 CFR 214.2(f)(6)(i)(B) and (F). A graduate-level F-1 nonimmigrant student who receives on-campus or off-campus employment authorization under this notice must remain registered for a minimum of three semester or quarter hours of instruction per academic term. See 8 CFR 214.2(f)(5)(v). Nothing in this notice affects the applicability of other minimum course load requirements set by the academic institution.

In addition, an F-1 nonimmigrant student (either undergraduate or graduate) granted on-campus or off-campus employment authorization under this notice may count up to the equivalent of one class or three credits per session, term, semester, trimester, or quarter of online or distance education toward satisfying this minimum course load requirement, unless their course of study is in an English language study program. See 8 CFR 214.2(f)(6)(i)(G). An F-1 nonimmigrant student attending an approved private school in kindergarten through grade 12 or public school in grades 9 through 12 must maintain “class attendance for not less than the minimum number of hours a week prescribed by the school for normal progress toward graduation,” as required under 8 CFR 214.2(f)(6)(i)(E). Nothing in this notice affects the applicability of federal and state labor laws limiting the employment of minors.

May an eligible F-1 nonimmigrant student who already has on-campus or off-campus employment authorization benefit from the suspension of regulatory requirements under this notice?

Yes. An F-1 nonimmigrant student who is a Cameroonian citizen, regardless of country of birth (or an individual having no nationality who last habitually resided in Cameroon), who already has on-campus or off-campus employment authorization and is otherwise eligible may benefit under this notice, which suspends certain regulatory requirements relating to the minimum course load requirement under 8 CFR 214.2(f)(6)(i) and certain employment eligibility requirements under 8 CFR 214.2(f)(9). Such an eligible F-1 nonimmigrant student may benefit without having to apply for a new Form I-766, Employment Authorization Document (EAD). To benefit from this notice, the F-1 nonimmigrant student must request that their designated school official (DSO) enter the following statement in the remarks field of the student's Student and Exchange Visitor Information System (SEVIS) record, which the student's Form I-20, Certificate of Eligibility for Nonimmigrant (F-1) Student Status, will reflect:

Approved for more than 20 hours per week of [DSO must insert “on-campus” or “off-campus,” depending upon the type of employment authorization the student already has] employment authorization and reduced course load under the Special Student Relief authorization from [DSO must insert the beginning date of the notice or the beginning date of the student's employment, whichever date is later] until [DSO must insert either the student's program end date, the current EAD expiration date (if the student is currently authorized for off-campus employment), or the end date of this notice, whichever date comes first].³⁰

³⁰ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of June 7, 2025, provided the student satisfies the minimum course load requirements in this notice.

Must the F-1 nonimmigrant student apply for reinstatement after expiration of this special employment authorization if the student reduces his or her “full course of study”?

No. DHS will deem an F-1 nonimmigrant student who receives and comports with the employment authorization permitted under this notice to be engaged in a “full course of study” ³¹ for the duration of the student's employment authorization, provided that a qualifying undergraduate level F-1 nonimmigrant student remains registered for a minimum of six semester or quarter hours of instruction per academic term, and a qualifying graduate level F-1 nonimmigrant student remains registered for a minimum of three semester or quarter hours of instruction per academic term. See 8 CFR 214.2(f)(5)(v) and (f)(6)(i)(F). Undergraduate F-1 nonimmigrant students enrolled in a term of different duration must register for at least one half of the credit hours normally required under a “full course of study.” See 8 CFR 214.2(f)(6)(i)(B) and (F). DHS will not require such students to apply for reinstatement under 8 CFR 214.2(f)(16) if they are otherwise maintaining F-1 nonimmigrant status.

³¹ See 8 CFR 214.2(f)(6).

Will an F-2 dependent (spouse or minor child) of an F-1 nonimmigrant student covered by this notice be eligible for employment authorization?

No. An F-2 spouse or minor child of an F-1 nonimmigrant student is not authorized to work in the United States and, therefore, may not accept employment under the F-2 nonimmigrant status, consistent with 8 CFR 214.2(f)(15)(i).

Will the suspension of the applicability of the standard student employment requirements apply to an individual who receives an initial F-1 visa and makes an initial entry into the United States after the effective date of this notice in the Federal Register?

No. The suspension of the applicability of the standard regulatory requirements only applies to certain F-1 nonimmigrant students who meet the following conditions:

(1) Are a citizen of Cameroon regardless of country of birth (or an individual having no nationality who last habitually resided in Cameroon);

(2) Were lawfully present in the United States on the date of publication of this notice in F-1 nonimmigrant status, under section 101(a)(15)(F)(i) of the INA, 8 U.S.C. 1101(a)(15)(F)(i);

(3) Are enrolled in an academic institution that is SEVP-certified for enrollment of F-1 nonimmigrant students;

(4) Are maintaining F-1 nonimmigrant status; and

(5) Are experiencing severe economic hardship as a direct result of the current armed conflict and current humanitarian crisis in Cameroon.

An F-1 nonimmigrant student who does not meet all these requirements is ineligible for the suspension of the applicability of the standard regulatory requirements (even if experiencing severe economic hardship as a direct result of the current armed conflict and current humanitarian crisis in Cameroon).

Does this notice apply to a continuing F-1 nonimmigrant student who departs the United States after the effective date of this notice in the Federal Register and who needs to obtain a new F-1 visa before returning to the United States to continue an educational program?

Yes. This notice applies to such an F-1 nonimmigrant student, but only if the DSO has properly notated the student's SEVIS record, which will then appear on the student's Form I-20. The normal rules for visa issuance remain applicable to a nonimmigrant who needs to apply for a new F-1 visa to continue an educational program in the United States.

Does this notice apply to elementary school, middle school, and high school students in F-1 status?

Yes. However, this notice does not by itself reduce the required course load for F-1 nonimmigrant students from Cameroon enrolled in kindergarten through grade 12 at a private school, or grades 9 through 12 at a public high school. Such students must maintain the minimum number of hours of class attendance per week prescribed by the academic institution for normal progress toward graduation, as required under 8 CFR 214.2(f)(6)(i)(E). The suspension of certain regulatory requirements related to employment through this notice is applicable to all eligible F-1 nonimmigrant students regardless of educational level. Eligible F-1 nonimmigrant students from Cameroon enrolled in an elementary school, middle school, or high school may benefit from the suspension of the requirement in 8 CFR 214.2(f)(9)(i) that limits on-campus employment to 20 hours per week while school is in session.

On-Campus Employment Authorization

Will an F-1 nonimmigrant student who receives on-campus employment authorization under this notice be authorized to work more than 20 hours per week while school is in session?

Yes. For an F-1 nonimmigrant student covered in this notice, the Secretary is suspending the applicability of the requirement in 8 CFR 214.2(f)(9)(i) that limits an F-1 nonimmigrant student's on-campus employment to 20 hours per week while school is in session. An eligible F-1 nonimmigrant student has authorization to work more than 20 hours per week while school is in session if the DSO has entered the following statement in the remarks field of the student's SEVIS record, which will be reflected on the student's Form I-20:

Approved for more than 20 hours per week of on-campus employment and reduced course load, under the Special Student Relief authorization from [DSO must insert the beginning date of this notice or the beginning date of the student's employment, whichever date is later] until [DSO must insert the student's program end date or the end date of this notice, whichever date comes first].³²

³² Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of June 7, 2025, provided the student satisfies the minimum course load requirements in this notice.

To obtain on-campus employment authorization, the F-1 nonimmigrant student must demonstrate to the DSO that the employment is necessary to avoid severe economic hardship directly resulting from the current armed conflict and current humanitarian crisis in Cameroon. An F-1 nonimmigrant student authorized by the DSO to engage in on-campus employment by means of this notice does not need to file any applications with U.S. Citizenship and Immigration Services (USCIS). The standard rules permitting full-time employment on-campus when school is not in session or during school vacations apply, as described in 8 CFR 214.2(f)(9)(i).

Will an F-1 nonimmigrant student who receives on-campus employment authorization under this notice have authorization to reduce the normal course load and still maintain his or her F-1 nonimmigrant student status?

Yes. DHS will deem an F-1 nonimmigrant student who receives on-campus employment authorization under this notice to be engaged in a “full course of study” ³³ for the purpose of maintaining their F-1 nonimmigrant student status for the duration of the on-campus employment, if the student satisfies the minimum course load requirement described in this notice, consistent with 8 CFR 214.2(f)(6)(i)(F). However, the authorization to reduce the normal course load is solely for DHS purposes of determining valid F-1 nonimmigrant student status. Nothing in this notice mandates that school officials allow an F-1 nonimmigrant student to take a reduced course load if the reduction would not meet the academic institution's minimum course load requirement for continued enrollment.³⁴

³³ See 8 CFR 214.2(f)(6).

³⁴ Minimum course load requirement for enrollment in a school must be established in a publicly available document (e.g., catalog, website, or operating procedure), and it must be a standard applicable to all students (U.S. citizens and foreign students) enrolled at the school.

Off-Campus Employment Authorization

What regulatory requirements does this notice temporarily suspend relating to off-campus employment?

For an F-1 nonimmigrant student covered by this notice, as provided under 8 CFR 214.2(f)(9)(ii)(A), the Secretary is suspending the following regulatory requirements relating to off-campus employment:

(a) The requirement that a student must have been in F-1 nonimmigrant student status for one full academic year to be eligible for off-campus employment;

(b) The requirement that an F-1 nonimmigrant student must demonstrate that acceptance of employment will not interfere with the student's carrying a full course of study;

(c) The requirement that limits an F-1 nonimmigrant student's employment authorization to no more than 20 hours per week of off-campus employment while the school is in session; and

(d) The requirement that the student demonstrate that employment under 8 CFR 214.2(f)(9)(i) is unavailable or otherwise insufficient to meet the needs that have arisen as a result of the unforeseen circumstances.

Will an F-1 nonimmigrant student who receives off-campus employment authorization under this notice have authorization to reduce the normal course load and still maintain F-1 nonimmigrant status?

Yes. DHS will deem an F-1 nonimmigrant student who receives off-campus employment authorization by means of this notice to be engaged in a “full course of study” ³⁵ for the purpose of maintaining F-1 nonimmigrant student status for the duration of the student's employment authorization if the student satisfies the minimum course load requirement described in this notice, consistent with 8 CFR 214.2(f)(6)(i)(F). The authorization for a reduced course load is solely for DHS purposes of determining valid F-1 nonimmigrant student status. Nothing in this notice mandates that school officials allow an F-1 nonimmigrant student to take a reduced course load if such reduced course load would not meet the school's minimum course load. requirement.³⁶

³⁵ See 8 CFR 214.2(f)(6).

³⁶ Minimum course load requirement for enrollment in a school must be established in a publicly available document (e.g., catalog, website, or operating procedure), and it must be a standard applicable to all students (U.S. citizens and foreign students) enrolled at the school.

How may an eligible F-1 nonimmigrant student obtain employment authorization for off-campus employment with a reduced course load under this notice?

An F-1 nonimmigrant student must file a Form I-765, Application for Employment Authorization, with USCIS to apply for off-campus employment authorization based on severe economic hardship directly resulting from the current armed conflict and current humanitarian crisis in Cameroon.³⁷ Filing instructions are located at https://www.uscis.gov/i-765.

³⁷ See 8 CFR 274a.12(c)(3)(iii).

Fee considerations. Submission of a Form I-765 currently requires payment of a $410 fee. An applicant who is unable to pay the fee may submit a completed Form I-912, Request for Fee Waiver, along with the Form I-765, Application for Employment Authorization. See https://www.uscis.gov/forms/filing-fees/additional-information-on-filing-a-fee-waiver. The submission must include an explanation about why USCIS should grant the fee waiver and the reason(s) for the inability to pay, and any evidence to support the reason(s). See 8 CFR 103.7(c) (Oct. 1, 2020).

Supporting documentation. An F-1 nonimmigrant student seeking off-campus employment authorization due to severe economic hardship must demonstrate the following to their DSO:

(1) This employment is necessary to avoid severe economic hardship; and

(2) The hardship is a direct result of the current armed conflict and current humanitarian crisis in Cameroon.

If the DSO agrees that the F-1 nonimmigrant student is entitled to receive such employment authorization, the DSO must recommend application approval to USCIS by entering the following statement in the remarks field of the student's SEVIS record, which will then appear on that student's Form I-20:

Recommended for off-campus employment authorization in excess of 20 hours per week and reduced course load under the Special Student Relief authorization from the date of the USCIS authorization noted on Form I-766 until [DSO must insert the program end date or the end date of this notice, whichever date comes first].³⁸

³⁸ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of June 7, 2025, provided the student satisfies the minimum course load requirements in this notice.

The F-1 nonimmigrant student must then file the properly endorsed Form I-20 and Form I-765 according to the instructions for the Form I-765. The F-1 nonimmigrant student may begin working off campus only upon receipt of the EAD from USCIS.

DSO recommendation. In making a recommendation that an F-1 nonimmigrant student be approved for Special Student Relief, the DSO certifies that:

(a) The F-1 nonimmigrant student is in good academic standing and is carrying a “full course of study” ³⁹ at the time of the request for employment authorization;

³⁹ See 8 CFR 214.2(f)(6).

(b) The F-1 nonimmigrant student is a citizen of Cameroon, regardless of country of birth (or an individual having no nationality who last habitually resided in Cameroon), and is experiencing severe economic hardship as a direct result of the current armed conflict and current humanitarian crisis in Cameroon, as documented on the Form I-20;

(c) The F-1 nonimmigrant student has confirmed that the student will comply with the reduced course load requirements of this notice and register for the duration of the authorized employment for a minimum of six semester or quarter hours of instruction per academic term if at the undergraduate level, or for a minimum of three semester or quarter hours of instruction per academic term if the student is at the graduate level; ⁴⁰ and

⁴⁰ 40 8 CFR 214.2(f)(5)(v).

(d) The off-campus employment is necessary to alleviate severe economic hardship to the individual as a direct result of the current armed conflict and current humanitarian crisis in Cameroon.

Processing. To facilitate prompt adjudication of the student's application for off-campus employment authorization under 8 CFR 214.2(f)(9)(ii)(C), the F-1 nonimmigrant student should do both of the following:

(a) Ensure that the application package includes the following documents:

(1) A completed Form I-765 with all applicable supporting evidence;

(2) The required fee or properly documented fee waiver request as defined in 8 CFR 103.7(c) (Oct. 1, 2020); and

(3) A signed and dated copy of the student's Form I-20 with the appropriate DSO recommendation, as previously described in this notice; and

(b) Send the application in an envelope which is clearly marked on the front of the envelope, bottom right-hand side, with the phrase “SPECIAL STUDENT RELIEF.” ⁴¹ Failure to include this notation may result in significant processing delays.

⁴¹ Guidance for direct filing addresses can be found here: https://www.uscis.gov/i-765-addresses.

If USCIS approves the student's Form I-765, USCIS will send the student a Form I-766 EAD as evidence of employment authorization. The EAD will contain an expiration date that does not exceed the end of the granted temporary relief.

Temporary Protected Status (TPS) Considerations

Can an F-1 nonimmigrant student apply for TPS and for benefits under this notice at the same time?

Yes. An F-1 nonimmigrant student who has not yet applied for TPS or for other relief that reduces the student's course load per term and permits an increased number of work hours per week, such as Special Student Relief,⁴² under this notice has two options.

⁴² See DHS Study in the States, Special Student Relief, https://studyinthestates.dhs.gov/students/special-student-relief (last visited May 10, 2023).

Under the first option, the F-1 nonimmigrant student may apply for TPS according to the instructions in the USCIS notice designating Cameroon for TPS elsewhere in this issue of the Federal Register. All TPS applicants must file a Form I-821, Application for Temporary Protected Status, with the appropriate fee (or request a fee waiver). Although not required to do so, if F-1 nonimmigrant students want to obtain a new TPS-related EAD that is valid through June 7, 2025, and to be eligible for automatic EAD extensions that may be available to certain EADs with an A-12 or C-19 category code, they must file Form I-765 and pay the Form I-765 fee (or request a fee waiver). After receiving the TPS-related EAD, an F-1 nonimmigrant student may request that their DSO make the required entry in SEVIS and issue an updated Form I-20, which notates that the nonimmigrant student has been authorized to carry a reduced course load, as described in this notice. As long as the F-1 nonimmigrant student maintains the minimum course load described in this notice, does not otherwise violate their nonimmigrant status, including as provided under 8 CFR 214.1(g), and maintains TPS, then the student maintains F-1 status and TPS concurrently.

Under the second option, the F-1 nonimmigrant student may apply for an EAD under Special Student Relief by filing Form I-765 with the location specified in the filing instructions. At the same time, the F-1 nonimmigrant student may file a separate TPS application but must submit the Form I-821 according to the instructions provided in the Federal Register notice designating Cameroon for TPS. If the F-1 nonimmigrant student has already applied for employment authorization under Special Student Relief, they are not required to submit the Form I-765 as part of the TPS application. However, some nonimmigrant students may wish to obtain a TPS-related EAD in light of certain extensions that may be available to EADs with an A-12 or C-19 category code that are not available to the C-3 category under which Special Student Relief falls. The F-1 nonimmigrant student should check the appropriate box when filling out Form I-821 to indicate whether a TPS-related EAD is being requested. Again, so long as the F-1 nonimmigrant student maintains the minimum course load described in this notice and does not otherwise violate the student's nonimmigrant status, included as provided under 8 CFR 214.1(g), the nonimmigrant will be able to maintain compliance requirements for F-1 nonimmigrant student status while having TPS.

When a student applies simultaneously for TPS and benefits under this notice, what is the minimum course load requirement while an application for employment authorization is pending?

The F-1 nonimmigrant student must maintain normal course load requirements for a “full course of study” ⁴³ unless or until the nonimmigrant student receives employment authorization under this notice. TPS-related employment authorization, by itself, does not authorize a nonimmigrant student to drop below twelve credit hours, or otherwise applicable minimum requirements (e.g., clock hours for non-traditional academic programs). Once approved for a TPS-related EAD and Special Student Relief employment authorization, as indicated by the DSO's required entry in SEVIS and issuance of an updated Form I-20, the F-1 nonimmigrant student may drop below twelve credit hours, or otherwise applicable minimum requirements (with a minimum of six semester or quarter hours of instruction per academic term if at the undergraduate level, or for a minimum of three semester or quarter hours of instruction per academic term if at the graduate level). See 8 CFR 214.2(f)(5)(v), (f)(6), and (f)(9)(i) and (ii).

⁴³ See 8 CFR 214.2(f)(6).

How does a student who has received a TPS-related EAD then apply for authorization to take a reduced course load under this notice?

There is no further application process with USCIS if a student has been approved for a TPS-related EAD. The F-1 nonimmigrant student must demonstrate and provide documentation to the DSO of the direct economic hardship resulting from the current armed conflict and current humanitarian crisis in Cameroon. The DSO will then verify and update the student's record in SEVIS to enable the F-1 nonimmigrant student with TPS to reduce the course load without any further action or application. No other EAD needs to be issued for the F-1 nonimmigrant student to have employment authorization.

Can a noncitizen who has been granted TPS apply for reinstatement of F-1 nonimmigrant student status after the noncitizen's F-1 nonimmigrant student status has lapsed?

Yes. Regulations permit certain students who fall out of F-1 nonimmigrant student status to apply for reinstatement. See 8 CFR 214.2(f)(16). This provision may apply to students who worked on a TPS-related EAD or dropped their course load before publication of this notice, and therefore fell out of student status. These students must satisfy the criteria set forth in the F-1 nonimmigrant student status reinstatement regulations.

How long will this notice remain in effect?

This notice grants temporary relief until June 7, 2025,⁴⁴ to eligible F-1 nonimmigrant students. DHS will continue to monitor the situation in Cameroon. Should the special provisions authorized by this notice need modification or extension, DHS will announce such changes in the Federal Register.

⁴⁴ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of June 7, 2025, provided the student satisfies the minimum course load requirements in this notice.

Paperwork Reduction Act (PRA)

An F-1 nonimmigrant student seeking off-campus employment authorization due to severe economic hardship resulting from the current armed conflict and current humanitarian crisis in Cameroon must demonstrate to the DSO that this employment is necessary to avoid severe economic hardship. A DSO who agrees that a nonimmigrant student should receive such employment authorization must recommend an application approval to USCIS by entering information in the remarks field of the student's SEVIS record. The authority to collect this information is in the SEVIS collection of information currently approved by the Office of Management and Budget (OMB) under OMB Control Number 1653-0038.

This notice also allows an eligible F-1 nonimmigrant student to request employment authorization, work an increased number of hours while the academic institution is in session, and reduce their course load while continuing to maintain F-1 nonimmigrant student status.

To apply for employment authorization, certain F-1 nonimmigrant students must complete and submit a currently approved Form I-765 according to the instructions on the form. OMB has previously approved the collection of information contained on the current Form I-765, consistent with the PRA (OMB Control No. 1615-0040). Although there will be a slight increase in the number of Form I-765 filings because of this notice, the number of filings currently contained in the OMB annual inventory for Form I-765 is sufficient to cover the additional filings. Accordingly, there is no further action required under the PRA.

Alejandro Mayorkas,
Secretary, U.S. Department of Homeland Security.

[FR Doc. 2023-22371 Filed 10-6-23; 8:45 am]

BILLING CODE 9111-28-P